DEPARTMENT OF COMMERCE

National Oceanic and Atmospheric Administration

[I.D. 092106F]

Advisory Committee to the U.S. Section to the International Commission for the Conservation of Atlantic Tunas; Fall Meeting

AGENCY: National Marine Fisheries Service (NMFS), National Oceanic and Atmospheric Administration (NOAA), Commerce.

ACTION: Notice of public meeting.

SUMMARY: In preparation for the 2006 ICCAT meeting, the Advisory Committee to the U.S. Section to International Commission for the Conservation of Atlantic Tunas (ICCAT) will meet in October 2006.

DATES: An open session will be held on October 15, 2006, from 2 to 5 p.m. Closed sessions will be held from 9 a.m. to 5 p.m. October 16-17, 2006. Oral and written comments can be presented during the public comment session on October 15, 2006. Mailed written comments on issues being considered at the meeting should be received no later than October 10, 2006.

ADDRESSES: The meeting will be held at the Hilton Hotel, 8727 Colesville Road, Silver Spring, MD 20910. Written comments should be sent to Kelly Denit at NOAA Fisheries Office of International Affairs, Room 13114, 1315 East-West Highway, Silver Spring, MD 20910.

FOR FURTHER INFORMATION CONTACT: Kelly Denit (301) 713-2276.

SUPPLEMENTARY INFORMATION: The Advisory Committee to the U.S. Section to ICCAT will meet in open session on October 15. The Advisory Committee will receive information on the stock status of highly migratory species and management recommendations of ICCAT's Standing Committee on Research and Statistics. There will be an opportunity for oral public comment during the October 15, 2006, open session. Written comments may also be submitted at the October 15 open session or by mail. If mailed, written comments should be received by October 10, 2006 (see ADDRESSES).

During its fall meeting, the Advisory Committee will also hold two executive sessions that are closed to the public. The first executive session will be held on October 16, 2006, and a second executive session will be held on October 17, 2006. The purpose of these sessions is to discuss sensitive information relating to upcoming international negotiations.

NMFS expects members of the public to conduct themselves appropriately for the duration of the meeting. At the beginning of the public comment session, an explanation of the ground rules will be provided (e.g., alcohol in the meeting room is prohibited, speakers will be called to give their comments in the order in which they registered to speak, each speaker will have an equal amount of time to speak, and speakers should not interrupt one another). The session will be structured so that all attending members of the public are able to comment, if they so choose, regardless of the degree of controversy of the subject(s). Those not respecting the ground rules will be asked to leave the meeting.

Special Accommodations

The meeting location is physically accessible to people with disabilities. Requests for sign language interpretation or other auxiliary aids should be directed to Kelly Denit at (301) 713-2276 at least five days prior to the meeting date.

Dated: September 26, 2006.
William T. Hogarth,
Assistant Administrator for Fisheries, National Marine Fisheries Service.

[FR Doc. 06-8374 Filed 9-26-06; 2:28 pm]

BILLING CODE 3510-22-S